DEPARTMENT OF TRANSPORTATION

Federal Aviation Administration

Issuance of Final Report of the Amateur-Built Aviation Rulemaking Committee and Changes to Certain Documents Related to Amateur-Built Aircraft

AGENCY: Federal Aviation Administration, DOT.

SUMMARY: This notice announces the issuance of the final report from the Amateur-Built Rulemaking Committee. The report provides information and guidance concerning recommendations regarding the use of builder or commercial assistance when fabricating and assembling amateur-built aircraft under current FAA regulations. This notice also announces recommended changes to certain documents that are used in the airworthiness certification of amateur-built aircraft.

FOR FURTHER INFORMATION CONTACT: Frank P. Paskiewicz, Manager, Production and Airworthiness Division, Aircraft Certification Service, AIR-200, Federal Aviation Administration, 800 Independence Ave., SW., Washington, DC 20591; telephone number: (202) 267-8361. A copy of the final report may be obtained by accessing the FAA's Web page at http://www.faa.gov.

SUPPLEMENTARY INFORMATION:

Background

The Federal Aviation Administration (FAA) Aircraft Certification Service established the Amateur-Built Aviation Rulemaking Committee (ARC) on July 26, 2006.¹ The Committee was made up of representatives from the FAA, aircraft kit manufacturers, commercial assistance center owners, and associations. The purpose of the Committee was to make recommendations regarding the use of builder or commercial assistance when fabricating and assembling amateur-built aircraft under Title 14 Code of Federal Regulations (14 CFR), part 21, § 21.191(g), Operating Amateur-Built Aircraft. This regulation defines an amateur-built aircraft as an aircraft that, “* * *the major portion of which has been fabricated and assembled by persons who undertook the construction project solely for their own education or recreation.”

¹ FAA Order 1110.143, dated July 26, 2006, established the Amateur-Built Aviation Rulemaking Committee.

There is concern by the FAA and other interested parties that many amateur-built aircraft are not being fabricated and assembled by persons for their own education or recreation, but are being built in large part by commercial assistance companies that specialize in kit aircraft construction. Although some assistance is allowed when fabricating and assembling an amateur-built kit, the major portion (at least fifty-one percent 51%) of the fabrication and assembly must be completed by the amateur-builder to be in compliance with existing regulations.

The final report discusses the decisions and recommendations made by the Committee and also the areas where there was disagreement among the Committee members.

The FAA will implement the following recommendations agreed upon by the Committee by October 2008:

• Update FAA Form 8000-38, “Fabrication/Assembly Checklist.”

• Update FAA Form 8130-12, “Eligibility Statement, Amateur-Built Aircraft.”

• Update and combine into a single Advisory Circular (AC) both AC 20-27, “Certification and Operation of Amateur-Built Aircraft” and (AC) 20-138, “Commercial Assistance During Construction of Amateur-Built Aircraft.”

• Update FAA Order 8130.2F, “Airworthiness Certification of Aircraft and Related Products.”

• Establish a National Kit Evaluation Team to ensure consistency and accuracy in determining if an amateur-built kit meets the major portion requirement of 21.191(g).

The FAA and some Committee members could not come to consensus regarding how best to determine the calculation of major portion. Therefore, the FAA will revise the process for determining major portion in FAA Order 8130.2.

Interested parties will be given an opportunity for comment on changes to the advisory circulars, FAA Order 8130.2, to include section 9, Experimental Amateur-Built Airworthiness Certifications, and forms 8000-38 and 8130-12 once these changes are implemented. This opportunity will be announced in a future Federal Register notice.

Dated: February 11, 2008.
Frank Paskiewicz,
Manager, Production and Airworthiness Division.

[FR Doc. 08-705 Filed 2-14-08; 8:45 am]

BILLING CODE 4910-13-M